DEPARTMENT OF ENERGY

Federal Energy Regulatory Commission

[Docket No. ER01-2541-002, et al.]

Northern Indiana Public Service Company, et al., Electric Rate and Corporate Regulation Filings

February 27, 2002.

Take notice that the following filings have been made with the Commission. Any comments should be submitted in accordance with Standard Paragraph E at the end of this notice.

1. Northern Indiana Public Service Company

[Docket No. ER01-2541-002]

Take notice that on February 21, 2002, Northern Indiana Public Service Company (Northern Indiana) filed with the Federal Energy Regulatory Commission (Commission) First Revised Service Agreement No. 137 (Interconnection and Operating Agreement with Whiting Clean Energy, Inc.). The filing is made in compliance with an order issued by the Commission in Docket No. ER01-2541-000.

Northern Indiana has requested an effective date of July 9, 2001. Copies of this filing have been sent to Whiting Clean Energy, Inc., the Indiana Utility Regulatory Commission, and the Indiana Office of Utility Consumer Counselor.

Comment Date: March 13, 2002.

2. Duke Energy Marshall, LLC

[Docket Nos. ER02-530-001]

Take notice that on February 22, 2002, Duke Energy Marshall, LLC (Duke Marshall) tendered for filing with the Federal Energy Regulatory Commission (Commission) additional information to the supporting material of Duke Marshall's application for market based rates. This filing is made pursuant to the Commission's February 7, 2002, letter in which the Commission requested additional data regarding uncommitted capacity for non-Duke Marshall generation within Duke Marshall's local market (TVA).

Duke Marshall requests pursuant to Section 35.11 of the Commission's regulations that the Commission waive the 60-day minimum notice requirement under Section 35.3(a) of its regulations and grant an effective date for Duke Marshall's market based rate tariff of February 1, 2002, as requested in its initial market based rates application filed on December 12, 2001.

Comment Date: March 15, 2002.

3. Bluegrass Generation Company, L.L.C., Cabrillo Power I LLC, Cabrillo Power II LLC, Calcasieu Power, LLC, Dynegy Danskammer, L.L.C., Dynegy Midwest Generation, Inc., Dynegy Power Marketing, Inc., Dynegy Power Services, Inc., Dynegy Roseton, L.L.C., El Segundo Power, LLC, Foothills Generating, L.L.C., Heard County Power, L.L.C., Illinova Energy Partners, Inc., Long Beach Generation LLC, Nicor Energy, LLC, Renaissance Power, L.L.C., Riverside Generating Company, L.L.C., Rockingham Power, L.L.C., Rocky Road Power, LLC, Rolling Hills Generating, L.L.C.

[Docket Nos. ER02-506-002, ER99-1115-005, ER99-1116-005, ER00-1049-003, ER01-140-002, ER00-1895-002, ER99-4160-003, ER94-1612-026, ER01-141-002, ER98-1127-005, ER02-554-001, ER01-943-002, ER94-1475-021, ER98-1796-004, ER01-1169-002, ER01-3109-002, ER01-1044-002, ER99-1567-002, ER99-2157-002, ER02-553-001]

Take notice that on February 22, 2002, Dynegy Inc. filed corrections to the updated market power study originally filed on February 8, 2002 in the above-referenced dockets.

Comment Date: March 15, 2002.

4. PJM Interconnection, L.L.C.

[Docket No. ER02-1061-000]

Take notice that on February 22, 2002, PJM Interconnection, L.L.C. (PJM), tendered for filing with the Federal Energy Regulatory Commission (Commission) the following executed agreements: (i) An umbrella agreement for firm point-to-point service with Appalachian Power Co. with American Electric Power Service Corp. as Agent (AEPAP); (ii) an umbrella agreement for non-firm point-to-point transmission service with AEPAP; (iii) an umbrella agreement for firm point-to-point transmissions service with Powerex Corp (Powerex); and (iv) an umbrella agreement for non-firm point-to-point transmission service with Powerex.

PJM requested a waiver of the Commission's notice regulations to permit effective date of February 23, 2002 for the agreements.

Copies of this filing were served upon AEPAP and Powerex, as well as the state utility regulatory commissions within the PJM control area.

Comment Date: March 15, 2002.

5. Entergy Services, Inc.

[Docket No. ER02-1062-000]

Take notice that on February 22, 2002, Entergy Services, Inc., (Entergy Services) on behalf of Entergy Arkansas, Inc., Entergy Gulf States, Inc., Entergy Louisiana, Inc., Entergy Mississippi, Inc., and Entergy New Orleans, Inc., tendered for filing a Service Agreement for Network Integration Transmission Service and a Network Operating Agreement between Entergy Services and Cleco Power LLC.

Comment Date: March 15, 2002.

6. WPS Westwood Generation, LLC

[Docket No. ER02-1063-000]

Take notice that on February 22, 2002, WPS Westwood Generation, LLC (the Company) filed umbrella short-term service agreements under the Company's market-based rates tariff, FERC Electric Tariff, Second Revised Volume No. 1 (Tariff) for Sunbury Generation, LLC (Sunbury) and WPS Energy Services Inc. (ESI).

A copy of the filing was served upon Sunbury and ESI.

Comment Date: March 15, 2002.

7. Sunbury Generation, LLC

[Docket No. ER02-1064-000]

Take notice that on February 22, 2002, Sunbury Generation, LLC (the Company) filed umbrella short-term service agreements under the Company's market-based rates tariff, FERC Electric Tariff, First Revised Volume No. 1 (Tariff) for WPS Westwood Generation, LLC (WPS Westwood) and WPS Energy Services Inc. (ESI).

A copy of the filing was served upon WPS Westwood and ESI.

Comment Date: March 15, 2002.

8. WPS Canada Generation, Inc.

[Docket No. ER02-1065-000]

Take notice that on February 22, 2002, WPS Canada Generation, Inc. (the Company) filed three service agreements under the Company's market-based rates tariff, FERC Electric Tariff, First Revised Volume No. 1 (Tariff). The agreements include a long-term service agreement with WPS New England Generation, Inc. (WPS New England), an umbrella short-term service agreement with WPS New England, and an umbrella short-term service agreement with WPS Energy Services Inc. (ESI).

A copy of the filing was served upon WPS New England and ESI.

Comment Date: March 15, 2002.

9. WPS New England Generation, Inc.

[Docket No. ER02-1066-000]

Take notice that on February 22, 2002, WPS New England Generation, Inc. (the Company) filed three service agreements under the Company's market-based rates tariff, FERC Electric Tariff, First Revised Volume No. 1 (Tariff). The agreements include a long-term service agreement with WPS Energy Services, Inc. (ESI), and umbrella short-term service agreement with ESI, and umbrellas short-term service agreement with WPS Canada Generation, Inc. (WPS Canada).

A copy of the filing was served upon ESI and WPS Canada.

Comment Date: March 15, 2002.

10. Niagara Mohawk Power Corporation

[Docket No. ER02-1067-000]

Take notice that on February 22, 2002, Niagara Mohawk Power Corporation (Niagara Mohawk) tendered for filing the revised Nine Mile Point Unit 2 Interconnection Agreement effective November 7, 2001 between Niagara Mohawk and Constellation Nuclear LLC (NMP-2 ICA) to reflect the docket number of this proceeding and fill in the various blanks or similar placeholders. At the closing, Constellation Nuclear LLC assigned all of its rights and obligations under the NMP-2 ICA to Nine Mile LLC pursuant to an Assignment and Assumption Agreement dated November 7, 2001.

Niagara Mohawk states that this filing has been served on the persons listed in the service list for Docket No. ER01-1986-000.

Comment Date: March 15, 2002.

11. Cinergy Services, Inc.

[Docket No. ER02-1068-000]

Take notice that on February 22, 2002, Cinergy Services, Inc. (Cinergy) and Griffin Energy Marketing, L.L.C. are requesting a cancellation of Service Agreement No. 62, under Cinergy Operating Companies, FERC Electric Resale of Transmission Rights and Ancillary Service Rights, FERC Electric Tariff Original Volume No. 8.

Cinergy requests an effective date of February 25, 2002.

Comment Date: March 15, 2002.

12. Entergy Services, Inc.

[Docket No. ER02-1069-000]

Take notice that on February 22, 2002, Entergy Services, Inc., on behalf of Entergy Louisiana, Inc., tendered for filing an unexecuted, amended and restated Interconnection and Operating Agreement with Washington Parish Energy Center, L.L.C. (Washington Parish), and an updated Generator Imbalance Agreement with Washington Parish (the First Revised Interconnection Agreement).

Comment Date: March 15, 2002.

13. Niagara Mohawk Power Corporation

[Docket No. ER02-1070-000]

On February 22, 2002, Niagara Mohawk Power Corporation (Niagara Mohawk) tendered for filing a revised top-sheet for the Nine Mile Point Unit 1 Interconnection Agreement effective November 7, 2001 between Niagara Mohawk and Constellation Nuclear LLC (NMP-1 ICA) to reflect the docket number if this proceeding. At the closing, Constellation Nuclear LLC assigned all of its rights and obligations under the NMP-1 ICA to Nine Mile LLC pursuant to an Assignment and Assumption Agreement dated November 7, 2001.

Niagara Mohawk states that this filing has been served on the persons listed in the service list for Docket No. ER01-1986-000.

Comment Date: March 15, 2002.

14. Cinergy Services, Inc.

[Docket No.ER02-1071-000]

Take notice that Cinergy Services, Inc. (Cinergy) and Griffin Energy Marketing, L.L.C. on February 21, 2002 are requesting a cancellation of Service Agreement No 228, under Cinergy Operating Companies, FERC Electric Market-Based Power Sales Tariff, FERC Electric Tariff Original Volume No. 7.

Cinergy requests an effective date of February 25, 2002.

Comment Date: March 15, 2002.

15. American Electric Power Service Corporation

[Docket No. ER02-1072-000]

Take notice that on February 22, 2002, American Electric Power Service Corporation (AEPSC), on behalf of Appalachian Power Company, submitted pursuant to section 205 of the Federal Power Act and part 35 of the Commission's regulations, rate schedule changes for sales of electricity to North Carolina Electric Membership Corporation (NCEMC).

AEPSC states that a copy of this filing has been mailed to NCEMC and the regulatory commissions for the states of North Carolina, Virginia, and West Virginia. AEPSC requests that the rate schedule changes become effective on March 1, 2002.

Comment Date: March 15, 2002.

16. Southern California Edison Company

[Docket No. ER02-1073-000]

Take notice, that on February 22, 2002, Southern California Edison Company (SCE) tendered for filing an Interconnection Facilities Agreement (IFA) between SCE and High Desert Power Trust (HDPT). This IFA specifies the terms and conditions pursuant to which SCE will interconnect the 850 MW High Desert Power Project of the California Independent System Operator Controlled Grid pursuant to SCE's Transmission Owner Tariff, FERC Electric Tariff, Substitute First Revised Original Volume No. 6.

SCE requests that the IFA become effective on February 23, 2002. Copies of this filing were served upon the Public Utilities Commission of the State of California, HDPT and High Desert Power Project, LLC.

Comment Date: March 15, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5283 Filed 3-5-02; 8:45 am]

BILLING CODE 6717-01-P